DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held either in person and/or virtually, as noted below. Members of the public must register in advance to attend all meetings virtually. A registration link will be posted on the Governing Board's website, www.nagb.gov, five (5) business days prior to each meeting.

DATES: The Quarterly Board Meeting and Standing Committee meetings (virtual) will be held on the following dates:

Quarterly Board Meeting

March 5, 2026, from 12:30 p.m. to 5:00 p.m., CST

March 6, 2026, from 7:30 a.m. to 12:15 p.m., CST

ADDRESSES: Doubletree by Hilton Hotel Houston—Greenway Plaza, 6 East Greenway Plaza, Houston, TX 77046.

Standing Committee Meetings

Tuesday, February 10, 2026

Nominations Committee (Virtual)

5:00 p.m.-6:00 p.m. (ET)

Tuesday, February 17, 2026

Executive Committee (Virtual)

4:00 p.m.-6:00 p.m. (ET)

Thursday, February 26, 2026

Assessment Development Committee (Virtual)

4:00 p.m.-5:00 p.m. (ET)

Monday, March 9, 2026

Committee on Standards, Design and Methodology (Virtual)

10:30 a.m.-12:00 p.m. (ET)

Tuesday, March 10, 2026

Reporting and Dissemination Committee (Virtual)

1:30 p.m.-2:45 p.m. (ET)

FOR FURTHER INFORMATION CONTACT: Angela Scott, Designated Federal Officer (DFO) for the Governing Board, 400 Maryland Avenue SW, Washington, DC 20202, telephone: (202) 245-6234, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Standing Committee Meetings

The Governing Board's standing committees will meet to conduct regularly scheduled work. Standing committee meeting agendas and meeting materials will be posted on the Governing Board's website, www.nagb.gov, no later than five (5) business days prior to the meetings. Members of the public may attend the open sessions and can register via the website. Minutes of prior standing committee meetings are available at https://www.nagb.gov/governing-board/quarterly-board-meetings.html.

Standing Committee Meetings

Tuesday, February 10, 2026

Nominations Committee (Virtual)

5:00 p.m.-6:00 p.m. (ET), Closed Session

The Nominations Committee will meet in closed session on Tuesday, February 10, 2026, from 5:00 p.m. to 6:00 p.m. to review and discuss the finalists for Governing Board vacancies and to finalize its recommendations for the 2026 slate of nominations to be submitted to the board for consideration and action. This discussion pertains to information of a personal nature where disclosure would constitute a clearly unwarranted invasion of personal privacy. As such, these discussions are protected by exemption 6 of the Government Sunshine Act, 5 U.S.C. 552b. 5 U.S.C. 552b(c)(6).

Tuesday, February 17, 2026

Executive Committee (Virtual)

4:00 p.m.-4:30 p.m. (ET), Open Session

4:30 p.m.-6:00 p.m. (ET), Closed Session

The Executive Committee will meet in open session on Tuesday, February 17, 2026, from 4:00 p.m. to 4:30 p.m., followed by a closed session from 4:30 p.m. to 6:00 p.m. Board Chair Mark White will open the meeting at 4:00 p.m. Executive Director, Lesley Muldoon, will provide an update on the Board's work from 4:05 p.m. to 4:10 p.m., and an update on Trial Urban District Assessment (TUDA) eligibility criteria from 4:10 p.m. to 4:30 p.m. The committee will meet in closed session from 4:30 p.m. to 6:00 p.m. to discuss recommendations for the NAEP Assessment Schedule. This discussion may impact current and future NAEP contracts and budgets and must be kept confidential to maintain the integrity of the Federal budgeting and acquisition processes. Public disclosure of this confidential information would significantly impede implementation of the NAEP assessment program if conducted in open session. Such matters are protected by exemption 9(B) of the Government Sunshine Act, 5 U.S.C. 552b(c). The meeting will adjourn at 6:00 p.m.

Thursday, February 26, 2026

Assessment Development Committee (Virtual)

4:00 p.m.-5:00 p.m. (ET), Open Session

The Assessment Development Committee will meet in open session on Thursday, February 26, 2026, from 4:00 p.m. to 5:00 p.m. to review the subject specific contextual variables for the 2028 NAEP Science Assessment at Grade 8.

Monday, March 9, 2026

Committee on Standards, Design and Methodology (Virtual)

10:30 a.m.-12:00 p.m. (ET), Closed Session

The Committee on Standards, Design and Methodology will meet in closed session on Monday, March 9, 2026, from 10:30 a.m. to 12:00 p.m. The Committee Chair will open the meeting, followed by a discussion on the Automated Scoring of Reading Constructed Response Items in 2026 from 10:35 a.m. to 11:20 a.m. This portion of the meeting must be closed because it will include item-level assessment data that is not publicly available. Public disclosure of this confidential information would significantly impede implementation of the NAEP assessment program if conducted in open session. These matters are protected by exemption 9(B) of the Government Sunshine Act, 5 U.S.C. 552b(c).

The meeting will continue in closed session from 11:20 a.m. to 12:00 p.m. to discuss the NAEP Achievement Levels Overview and Planning. Public disclosure of this confidential information would affect current and future NAEP contracts and budgets and must remain confidential to protect the integrity of the federal budgeting and acquisition process. These matters are protected by exemption 9(B) of the Government Sunshine Act, 5 U.S.C. 552b(c).

Tuesday, March 10, 2026

Reporting and Dissemination Committee (Virtual)

1:30 p.m.-2:00 p.m. (ET), Open Session

2:00 p.m.-2:45 p.m. (ET), Closed Session

The Reporting and Dissemination Committee will meet on Tuesday, March 10, 2026, in open session from 1:30 p.m. to 2:00 p.m., and in closed session from 2:00 p.m. to 2:45 p.m. From 1:30 p.m. to 2:00 p.m., the committee will receive a strategic communications update. From 2:00 p.m. to 2:45 p.m., the committee will meet in closed session to discuss plans for reporting and disseminating the release of the 2025 NAEP Long-Term Trend data. This session must be closed because the results have not been released to the public. Public disclosure of this confidential information would significantly impede implementation of the NAEP assessment program if conducted in open session. Such matters are protected by exemption 9(B) of the Government Sunshine Act, 5 U.S.C. 552b.

Quarterly Governing Board Meeting

The plenary sessions of the Governing Board's March 2026 quarterly meeting will be held on the following dates and times:

Thursday, March 5, 2026

12:30 p.m.-5:00 p.m. (CST) (Hybrid Meeting)

12:30 p.m.-2:00 p.m. (CST), Open Session

2:00 p.m.-5:00 p.m. (CST), Closed Session

On Thursday, March 5, 2026, the Board will meet in open session, from 12:30 p.m. to 2:00 p.m. and in closed session from 2:00 p.m. to 5:00 p.m. The open session will begin at 12:30 p.m. with welcome remarks from Mark White, Chair of the Governing Board, followed by approval of the March 2026 meeting agenda and the November 2025 meeting minutes. The session will then include a welcome from meeting host Michelle Cantú-Wilson and remarks about how NAEP supports student success in Texas from K-12 through workforce readiness.

From 12:45 p.m. to 1:00 p.m., Lesley Muldoon, Executive Director, will provide an update on the Board's work. From 1:00 p.m. to 1:15 p.m., Matthew Soldner, Acting Commissioner, NCES, will report on key NAEP activities, and provide an update on the status of the 2026 NAEP Administration, with Gina Ruehl, Director of Strategic Partnerships, NCES, from 1:15 p.m. to 1:45 p.m. A transition to closed session will occur from 1:45 p.m. to 2:00 p.m.

The Board will convene in closed session from 2:00 p.m. to 2:45 p.m. to receive an update on the status of the NAEP Budget from Matt Soldner and Gina Ruehl. This discussion will include confidential budget and procurement information not yet available to the public. Disclosure of this confidential information would have an adverse financial effect on the NAEP program by revealing proprietary contract costs of the current NAEP contractors and independent government cost estimates for future NAEP assessments. Such matters are protected by exemption 9(B) of the Government Sunshine Act, 5 U.S.C. 552b.

The Board will continue in closed session from 2:45 p.m. to 3:45 p.m. to receive updates on the 2025 Long-Term Trend Assessment. This session must be closed because the content of the assessment has not been released to the public. Public disclosure of this confidential information would significantly impede implementation of the NAEP assessment program if conducted in open session. Such matters are protected by exemption 9(B).

Finally, from 3:45 p.m. to 5:00 p.m., the Board will discuss the NAEP Assessment Schedule. This session must be closed because the discussion may impact current and future NAEP contracts and budgets and must be kept confidential to maintain the integrity of the Federal acquisition process. Public disclosure of this confidential information would significantly impede implementation of the NAEP assessment program if conducted in open session. Such matters are protected by exemption 9(B).

The Thursday, March 5, 2026, plenary session will adjourn at 5:00 p.m.

Friday, March 6, 2026

7:30 a.m.-12:15 p.m. (CST) (Hybrid Meeting)

7:30 a.m.-10:00 a.m. (CST), Closed Session

10:00 a.m.-12:15 p.m. (CST), Open Session

On Friday, March 6, 2026, plenary session will be held in closed session from 7:30 a.m. to 10:00 a.m., and in open session from 10:00 a.m. to 12:15 p.m. The Board will meet in closed session from 7:30 a.m. to 8:30 a.m. to review and discuss recommendations for the final slate of nominees to be submitted to the Secretary of Education for Governing Board membership terms beginning October 1, 2026. The session must be closed because the discussion will focus on internal personnel rules and practices, as well as personal information where disclosure would constitute a clearly unwarranted invasion of privacy. As such, the discussions are protected by exemption 2 and 6 of the Government Sunshine Act, 5 U.S.C. 552b. 5 U.S.C. 552b(c)(6).

Following a ten-minute transitional break, the Board will continue in closed session from 8:40 a.m. to 10:00 a.m., to discuss the NAEP Assessment Schedule. This session must be closed because the discussion may impact current and future NAEP contracts and budgets and must be kept confidential. Disclosure of this confidential information would significantly impede implementation of the NAEP assessment program if conducted in open session. Such matters are protected by exemption 9(B) of the Government Sunshine Act, 5 U.S.C. 552b.

The Board will take a break from 10:00 a.m. to 10:05 a.m. to transition to open session. From 10:05 a.m. to 10:10 a.m., Vice Chair Martin West will report on the recent meeting of the Board's Executive Committee. The board will act on the proposed slate of 2026 Governing Board nominees from 10:10 a.m. to 10:15 a.m. From 10:15 a.m. to 11:15 a.m., Margaret Spellings, President and CEO of the Bipartisan Policy Center, will talk with the Board about the mission and guiding principles of the Commission on the American Workforce, highlighting the urgent challenges facing the U.S. workforce and potential impacts for K-12 education. The Board will remain in open session from 11:15 a.m. to 12:15 p.m. to discuss the NextGen NAEP project, to support a more agile, efficient and actionable NAEP. The November 2025 Governing Board meeting will adjourn at 12:15 p.m.

Instructions for Accessing and Attending the Meetings

Registration: Members of the public may attend the standing committee meetings and the full Governing Board on March 5-6, 2026, either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO, either via email to Angela.Scott@ed.gov or in hard copy to the address listed above in the For Further Information Contact section. Written comments related to the standing committee meetings and the full Governing Board meeting should be submitted no later than close of business five days prior to each meeting and should reference the relevant agenda item.

Access to Records of the Meeting: Pursuant to 5 U.S.C. 1009, the public may inspect the meeting materials and other Governing Board records at 400 Maryland Avenue SW, Washington, DC 20202, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on February 26, 2026.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2026-02515 Filed 2-6-26; 8:45 am]

BILLING CODE 4000-01-P